DEPARTMENT OF HEALTH AND HUMAN SERVICES

Administration for Children and Families

Submission for OMB Review; Sexual Risk Avoidance Education National Evaluation: Nationwide Study of the National Descriptive Study (New Collection)

AGENCY: Office of Planning, Research and Evaluation, Administration for Children and Families, HHS.

ACTION: Request for public comments.

SUMMARY: The Office of Planning, Research and Evaluation (OPRE), Administration for Children and Families (ACF), U.S. Department of Health and Human Services (HHS), proposes survey and focus group data collection activities for the Sexual Risk Avoidance Education National Evaluation (SRAENE) Nationwide Study (NWS) of the National Descriptive Study (NDS).

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review-Open for Public Comments” or by using the search function. You can also obtain copies of the proposed collection of information by emailing OPREinfocollection@acf.hhs.gov. Identify all requests by the title of the information collection.

SUPPLEMENTARY INFORMATION: Description: OPRE/ACF/HHS proposes to conduct the NWS, a sub-study under the NDS of the SRAENE, to learn about Sexual Risk Avoidance Education (SRAE) program implementation experiences and outcomes of the SRAE grant program. The NWS builds on the Early Implementation Study, the first sub-study of the NDS, which was designed to tell the story about SRAE grant program plans (OMB Control #0970-0530). The NWS, which responds to Congress's reauthorization in February 2018 of title V, section 510 of the Social Security Act (Pub. L. 115-123), extended by the CARES ACT of 2020 (Pub. L. 116-136), will use a mixed-methods approach of surveys and focus groups to tell the story of the SRAE grant program, collecting detailed information on grantee program implementation experiences from grant recipients, SRAE program providers and facilitators, and youth program recipients. The NWS will also make use of extant data from grant-recipient performance measures on program outputs and outcomes. Combined with data on program implementation, the NWS will examine associations between implementation, outputs, and outcomes. The survey and focus group data are key to fully understanding program implementation experiences from all levels that bring the SRAE programs to youth-from grant administrators to program supervisors to the facilitators who interact directly with the youth themselves.

The study is being undertaken by ACF and its contractor Mathematica. The study research questions driving the need for data collection are as follows:

1. What are grant recipients' and providers' experiences with delivering SRAE curricular content? What are youth's experiences with receiving the SRAE curricular content?

2. How did grant recipients and providers interpret, understand, and address the A to F topics in the SRAE legislation?

3. Are some features of implementation more strongly associated with youth outcomes than others?

4. What provider characteristics are associated with a greater number of youth served and with youth outcomes?

To support these efforts, ACF proposes the following data collection activities: (1) a web-based survey of all grant recipient Directors who are not also providers, (2) a web-based survey of all SRAE program providers, (3) a web-based survey of all SRAE program facilitators, and (4) in-person (or virtual if necessary) focus groups with youth recipients of SRAE programming across five geographic regions of the United States.

Respondents: Respondents to the surveys will be SRAE program grant Directors, SRAE program providers, and SRAE program facilitators. Focus group participants will be youth recipients of SRAE programming. The focus group participants will be recruited from middle and high school across five U.S. Geographic regions: West, Midwest, Southwest, Southeast, and Northeast.

Annual Burden Estimates
Instrument | Number of respondents (total over request period) | Number of responses per respondent (total over request period) | Avg. burden per response (in hours) | Total/annual burden (in hours)
(1) NWS Grantee Survey | 40 | 1 | .17 | 7
(2) NWS Provider Survey | 500 | 1 | .75 | 375
(3) NWS Facilitator Survey | 1,600 | 1 | .75 | 1,200
(4) SRAE Program Youth Focus Group Discussion Guide | 200 | 1 | * .83 | 166
Estimated Total Annual Burden Hours: |  |  |  | 1,748
* Average burden per response includes 5 minutes to complete the consent and assent forms.

Authority: The Title V Competitive SRAE Program was authorized and funded by section 510 of the Social Security Act (42 U.S.C. 710), as amended by section 50502 of the Bipartisan Budget Act of 2018 (Public Law 115-123) and extended by the CARES Act of 2020 (Public Law 116-136).

See https://www.ssa.gov/OP_Home/ssact/title05/0510.htm.

Mary B. Jones,
ACF/OPRE Certifying Officer.

[FR Doc. 2022-19231 Filed 9-6-22; 8:45 am]

BILLING CODE 4184-83-P